ENVIRONMENTAL PROTECTION AGENCY

[FRL-7884-3]

Science Advisory Board Staff Office; Clean Air Scientific Advisory Committee (CASAC); Notification of Advisory Committee Meeting of the CASAC Particulate Matter Review Panel

AGENCY: Environmental Protection Agency (EPA).

ACTION: Notice.

SUMMARY: The Environmental Protection Agency (EPA) Science Advisory Board (SAB) Staff Office announces a public meeting of the Clean Air Scientific Advisory Committee's (CASAC) Particulate Matter (PM) Review Panel (Panel) to conduct a peer review of the Review of the National Ambient Air Quality Standards for Particulate Matter: Policy Assessment of Scientific and Technical Information (second draft PM Staff Paper, January 2005); and a related draft technical support document, Particulate Matter Health Risk Assessment for Selected Urban Areas: Second Draft Report (second draft PM Risk Assessment, January 2005).

DATES: April 6-7, 2005. The meeting will be held Wednesday, April 6, 2005, from 8:30 a.m. to 5:30 p.m. (eastern time), and Thursday, April 7, 2005, from 8:30 a.m. to 3 p.m. (eastern time).

Location: The meeting will take place at the Marriott Durham Civic Center Hotel, 210 Foster Street, Durham North Carolina, 27701.

FOR FURTHER INFORMATION CONTACT: Any member of the public who wishes to submit written or brief oral comments (five minutes or less); or wants further information concerning this meeting, must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web Site at: http://www.epa.gov/sab.

SUPPLEMENTARY INFORMATION: Summary: The CASAC, which is comprised of seven members appointed by the EPA Administrator, was established under section 109(d)(2) of the Clean Air Act (CAA or Act) (42 U.S.C. 7409) as an independent scientific advisory committee, in part to provide advice, information and recommendations on the scientific and technical aspects of issues related to air quality criteria and national ambient air quality standards (NAAQS) under sections 108 and 109 of the Act. The CASAC is a Federal advisory committee chartered under the Federal Advisory Committee Act (FACA), as amended, 5 U.S.C., App. The CASAC PM Review Panel complies with the provisions of FACA and all appropriate SAB Staff Office procedural policies.

This meeting is a continuation of the CASAC PM Review Panel's peer review of the Review of the National Ambient Air Quality Standards for Particulate Matter: Policy Assessment of Scientific and Technical Information (first draft PM Staff Paper, August 2003), and a related draft technical report, Particulate Matter Health Risk Assessment for Selected Urban Areas (first draft PM Risk Assessment, August 2003). The report from the Panel's previous meeting to review these draft documents, held on November 12-13, 2003 in Research Triangle Park (RTP), NC, is posted on the SAB Web Site at: http://www.epa.gov/sab/pdf/casac_04004.pdf. The second draft PM Staff Paper and the second draft PM Risk Assessment were made available for public review and comment on January 31, 2005 by EPA's Office of Air Quality Planning and Standards (OAQPS), within the Office of Air and Radiation (OAR).

Background: Under section 108 of the CAA, the Agency is required to establish NAAQS for each pollutant for which EPA has issued criteria, including PM. Section 109(d) of the Act subsequently requires periodic review and, if appropriate, revision of existing air quality criteria to reflect advances in scientific knowledge on the effects of the pollutant on public health and welfare. EPA is also to revise the NAAQS, if appropriate, based on the revised criteria. The purpose of the second draft PM Staff Paper is to evaluate the policy implications of the key scientific and technical information contained in a related document, EPA's revised Air Quality Criteria Document (AQCD) for PM (October 2004), and to identify critical elements that EPA staff believes should be considered in the review of the PM NAAQS. The Staff Paper for PM is intended to “bridge the gap” between the scientific review contained in the PM AQCD and the public health and welfare policy judgments required of the Administrator in reviewing the PM NAAQS.

This second draft PM Staff Paper is based on the information in the final PM AQCD, which had been the subject of review by the CASAC PM Panel. The report from the Panel's final meeting to review the PM AQCD, held via teleconference on September 20, 2004, is posted on the SAB Web site at: http://www.epa.gov/sab/pdf/casac05001.pdf. The Agency subsequently announced the availability of a final document, Air Quality Criteria for Particulate Matter (EPA/600/P-99/002aF, EPA/600/P-99/002bF) in a previous Federal Register notice (69 FR 63111, October 29, 2004). In addition, the second draft PM Staff Paper builds upon the first draft PM Staff Paper, which was the subject of review by the CASAC PM Panel in November 2003.

Technical Contact: Any questions concerning the second draft Staff Paper and the second draft PM Risk Assessment should be directed to Dr. Mary Ross, OAQPS, at phone: (919) 541-5170, or e-mail: ross.mary@epa.gov. Detailed summary information on EPA's second draft PM Staff Paper and second draft PM Risk Assessment is contained in a previous EPA Federal Register notice (70 FR 5443, February 2, 2005).

Availability of Meeting Materials: The Review of the National Ambient Air Quality Standards for Particulate Matter: Policy Assessment of Scientific and Technical Information (second draft PM Staff Paper, January 2005); and the draft technical support document, Particulate Matter Health Risk Assessment for Selected Urban Areas: Second Draft Report (second draft PM Risk Assessment, January 2005) and several additional staff technical support memos referenced in the second draft PM Staff Paper can be accessed via the Agency's Technology Transfer Network (TTN) Web site at: http://www.epa.gov/ttn/naaqs/standards/pm/s_pm_index.html under “Staff Papers” and “Technical Documents,” respectively. In addition, a copy of the draft agenda for the CASAC PM Review Panel meeting will be posted on the SAB Web site at: http://www.epa.gov/sab (under the “Agendas” subheading) in advance of this meeting. Other meeting materials, including the charge to the CASAC PM Review Panel, will also be posted on the SAB Web site at: http://www.epa.gov/sab/panels/casacpmpanel.html prior to this meeting.

Providing Oral or Written Comments at SAB Meetings: It is the policy of the SAB Staff Office to accept written public comments of any length, and to accommodate oral public comments whenever possible. The SAB Staff Office expects that public statements presented at its face-to-face meetings and teleconferences will not be repetitive of previously submitted oral or written statements. Oral Comments: In general, each individual or group requesting an oral presentation at a meeting or teleconference will be limited to a total time of five minutes (unless otherwise indicated). Requests to provide oral comments must be in writing (e-mail, fax or mail) and received by Mr. Butterfield no later than noon eastern time five business days prior to the meeting in order to reserve time on the meeting agenda. Speakers should bring at least 75 copies of their comments and presentation slides for distribution to the reviewers and public at the meeting. Written Comments: Although the SAB Staff Office accepts written comments until the date of the meeting (unless otherwise stated), written comments should be received in the SAB Staff Office no later than noon eastern time five business days prior to the meeting so that the comments may be made available to the CASAC PM Review Panel for their consideration. Comments should be supplied to Mr. Butterfield (preferably via e-mail) at the address/contact information noted above, as follows: one hard copy with original signature, and one electronic copy via e-mail (acceptable file format: Adobe Acrobat PDF, WordPerfect, MS Word, MS PowerPoint, or Rich Text files (in IBM-PC/Windows 98/2000/XP format)). Those providing written comments and who attend the meeting in person are also asked to bring 75 copies of their comments for public distribution.

Meeting Access: Individuals requiring special accommodation at this meeting, including telephone access to the meeting, or wheelchair access to the conference room, should contact Mr. Butterfield at the phone number or an e-mail address noted above at least at least five business days prior to the meeting so that appropriate arrangements can be made.

Dated: March 4, 2005.
Vanessa T. Vu,
Director, EPA Science Advisory Board Staff Office.

[FR Doc. 05-5044 Filed 3-14-05; 8:45 am]

BILLING CODE 6560-50-P